DEPARTMENT OF TRANSPORTATION

Coast Guard

33 CFR Part 165

[CGD07-01-017]

RIN 2115-AE84

Regulated Navigation Areas and Limited Access Areas; Miami River and Tamiami Canal, Miami-Dade County, FL

AGENCY: Coast Guard, DOT.

ACTION: Notice of proposed rule making.

SUMMARY: The Coast Guard proposes to amend the Regulated Navigation Area for the Miami River and Tamiami Canal to improve navigational safety on the River, prevent marine casualties and ensure the river's continued ability to serve as a main artery for flood control. This proposed rule would prohibit vessels greater than 200 gross tons from laying up in an inoperable status on the Miami River or Tamiami Canal during hurricane season from June 1 until November 30 annually.

DATES: Comments and related material must be received on or before July 24, 2001.

ADDRESSES: You may mail comments and related material to Commanding Officer, U.S. Coast Guard, Marine Safety Office, 100 MacArthur Causeway, Miami, FL 33139. Captain of the Port Miami maintains the public docket for this rulemaking. Comments and material received from the public, as well as documents indicated in this preamble as being available in the docket, will become part of this docket and will be available for inspection or copying at the above address between 8 a.m. and 4 p.m., Monday through Friday, except Federal holidays.

FOR FURTHER INFORMATION CONTACT: LTJG Heath Hartley, Division Officer, Coast Guard Marine Safety Office Miami, Waterways Management at (305) 535-8762.

SUPPLEMENTARY INFORMATION:

Request for Comments

We encourage you to participate in this rulemaking by submitting comments and related material. If you do so, please include your name and address, identify the docket number for this rulemaking (CGD07-01-017), indicate the specific section of this document to which each comment applies, and give the reason for each comment. Please submit all comments and related material in an unbound format, no larger than 8½ by 11 inches, suitable for copying. If you would like to know they reached us, please enclose a self-addressed postcard or envelope. We will consider all comments and material received during the comment period. We may change this proposed rule in view of them.

Public Meeting

We do not now plan to hold a public meeting. But you may submit a request for a meeting by writing to Commanding Officer at the address under ADDRESSES explaining why one would be beneficial. If we determine that one would aid this rulemaking, we will hold one at a time and place announced in the Federal Register.

Background and Purpose

In 1997 we issued regulations, after notice and comment, to control the practice of vessel rafting and ensure a safe minimum channel width along the Miami River and Tamiami Canal. (62 FR 50511, September 26, 1997). These regulations are contained in 33 CFR 165.726. The current regulations do not address vessels that are inoperable because of repairs, equipment or manning deficiencies, or judicial proceedings. This is often referred to as lay up status. The Coast Guard proposes to amend the current regulations to minimize potential environmental and navigational hazards posed by these vessels within the Port during the annual hurricane season.

South Florida's official hurricane season runs from June 1 until November 30, during which time the Coast Guard and maritime community are on a heightened alert for approaching heavy weather patterns. Along the 5.5 miles of interior waterway on the Miami River and Tamiami Canal, many commercial vessels involved in trade between Miami and the Caribbean are routinely placed out of service either for repairs or due to judicial and/or financial injunctions. While in lay up status, these vessels are typically inoperable mechanically, rendering them unable to depart the Port when heavy weather is imminent and evacuations are ordered. Commercial vessels remaining on this waterway after a Captain of the Port order to depart due to heavy weather create a substantial pollution threat to the environment and these vessels are at risk of breaking their moorings and becoming navigational hazards, restricting or closing the narrow waterway and threatening the viability of Florida's fifth largest Port. Amending the regulations to prohibit inoperable vessels from laying up on the Miami River and Tamiami Canal during the annual hurricane season will mitigate the potential environmental and navigational hazards which threaten the waterway during the hurricane season.

Discussion of Proposed Rule

The proposed rule would require all vessels greater than 200 gross tons to be capable of leaving the waterway within 24 hours notice during hurricane season. This will minimize the potential environmental and navigational hazards that could result from hurricane conditions and ensure that vessels can depart the port when heavy weather is imminent.

Regulatory Evaluation

This proposed rule is not a “significant regulatory action” under section 3(f) of Executive Order 12866 and does not require an assessment of potential costs and benefits under section 6(a)(3) of that order. The Office of Management and Budget has not reviewed it under that order. It is not “significant” under the regulatory policies and procedures of the Department of Transportation (DOT) (44 FR 11040, February 26, 1979).

We expect the economic impact of this proposed rule to be so minimal that a full Regulatory Evaluation under paragraph 10e of the regulatory policies and procedures of DOT is unnecessary.

This proposed rule would only affect those vessels over 200 gross tons that are incapable of leaving the waterways within 24 hours notice. This relatively small number of vessels can make alternate arrangements in advance. Further, vessels that desire to remain can request approval from the Captain of the Port. Requests will be evaluated on a case by case basis.

Small Entities

Under the Regulatory Flexibility Act (5 U.S.C. 601-612), we considered whether this proposed rule would have a significant economic effect upon a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities, vessel owners or operators intending to lay up or leave their vessels inoperable on the Miami River or Tamiami Canal during some portion of the hurricane season from June 1 until November 30.

This proposed rule would not have a significant economic impact or a substantial number of small entities for the following reasons. The proposed rule would be in effect for six months, and vessel owners could schedule lengthy maintenance outside of the hurricane season. Further, vessels intending to lay-up during hurricane season could locate, in advance, other less hazardous berthing. Vessels that can depart within 24 hours notice will not be affected.

If you think that your business, organization, or governmental jurisdiction qualifies as a small entity and that this proposed rule would have a significant economic impact on it, please submit a comment (see ADDRESSES) explaining why you think it qualifies and how and to what degree this proposed rule would economically affect it.

Assistance for Small Entities

Under section 213(a) of the Small Business Regulatory Enforcement Fairness Act of 1996 (Public Law 104-121), we want to assist small entities in understanding this proposed rule so that they can better evaluate its effects on them and participate in the rulemaking. If the proposed rule would affect your small business, organization, or governmental jurisdiction and you have questions concerning its provisions or options for compliance, please contact LTJG Heath Hartley at (305) 535-8762 for assistance in understanding and participating in this rulemaking.

Collection of Information

This proposed rule would call for no new collection of information under the Paperwork Reduction Act of 1995 (44 U.S.C. 3501-3520).

Federalism

A rule has implications for federalism under Executive Order 13132, Federalism, if it has a substantial direct effect on State and local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Environment

We considered the environmental impact of this proposed rule and concluded that, under, Figure 2-1, paragraph 34(g) of Commandant Instruction M16475.1C, this rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR Part 165, as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. In § 165.726 a new paragraph (b)(9) is added to read as follows:

§ 165.726 Regulated Navigation Areas; Miami River, Miami, Florida.

* * * * *

(b) * * *

(9) All vessels greater than 200 gross tons shall be operational and capable of leaving the Miami River and Tamiami Canal within 24 hours of notice during hurricane season from June 1 until November 30 annually.

* * * * *

Dated: May 7, 2001.
G.W. Sutton,
Captain, U.S. Coast Guard, Commander, Seventh Coast Guard District, Acting.

[FR Doc. 01-13285 Filed 5-24-01; 8:45 am]

BILLING CODE 4910-15-U